DEPARTMENT OF HEALTH AND HUMAN SERVICES

Centers for Disease Control and Prevention

[60Day-01-59]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project

Preventive Health and Health Services Block Grant, Annual Application and Reports (OMB #0920-0106)—Revision—National Center for Chronic Disease Prevention and Health Promotion (NCCDPHP), Centers for Disease Control and Prevention (CDC). In 1994, OMB approved the collection of information provided in the grant applications and annual reports for the Preventive Health and Health Services (PHHS) Block Grant (OMB #0920-0106). This approval expires on November 30, 2001. CDC is requesting OMB clearance for this legislatively mandated information collection until November 30, 2004. The request is to approve the development and adherence to Healthy People 2010, the Nation's Health Objectives which was released the Spring of 2000. The PHHS block grant is mandated according to section 1904 to adhere to the Healthy People framework, therefore, the current application and report format was restructured to coincide with 2010.

This information collected through the applications from the official State health agencies is required from section 1905 of the Public Health Service Act. There is a slight change in the proposed information collection from previous years. The changes include more program specific information and the relationship of block funded activities to program strategy. The information collected from the annual reports is required by section 1906. The development of a PHHS block grant web page with data web links from existing federal databases will be used to coincide with the collection of uniform data for the annual report. The availability to collect data through internet accessibility will allow for a more streamlined and efficient use of data processing by the states and will reduce the states burden of duplicate reporting on outcome and risk factor data. The cost to respondents is estimated at $25 per burden hour, a total cost to respondents of $106,750.

Respondents | No. of respondents | No. of responses/ respondent | Average burden per response (in hours) | Total burden (in hours)
Application | 61 | 1 | 30 | 1830
Report | 61 | 1 | 40 | 2440
Total |  |  |  | 4270

Dated: August 23, 2001.
Nancy Cheal,
Acting Associate Director for Policy, Planning and Evaluation, Centers for Disease Control and Prevention.

[FR Doc. 01-21997 Filed 8-30-01; 8:45 am]

BILLING CODE 4163-18-P